DEPARTMENT OF DEFENSE

Department of the Navy

Meeting of the Chief of Naval Operations (CNO) Executive Panel

AGENCY: Department of the Navy, DOD.

ACTION: Notice of closed meeting.

SUMMARY: The CNO Executive Panel will report on the findings and recommendations of the China Subcommittee to the Chief of Naval Operations. The meeting will consist of discussions of the U.S. Navy's maritime strategy for China.

DATES: The meeting will be held on Friday, June 2, 2006, from 1 p.m. to 2 p.m.

ADDRESSES: The meeting will be held at the Chief of Naval Operations office, Room 4E662, 2000 Navy Pentagon, Washington, DC 20350.

FOR FURTHER INFORMATION CONTACT: Commander Steve Vincent, CNO Executive Panel, 4825 Mark Center Drive, Alexandria, VA 22311, 703-681-4906.

SUPPLEMENTARY INFORMATION: Pursuant to the provisions of the Federal Advisory Committee Act (5 U.S.C. App. 2), these matters constitute classified information that is specifically authorized by Executive Order to be kept secret in the interest of national defense and are, in fact, properly classified pursuant to such Executive Order. Accordingly, the Secretary of the Navy has determined in writing that the public interest requires that all sessions of the meeting be closed to the public because they will be concerned with matters listed in section 552b(c)(1) of title 5, United States Code.

Dated: May 17, 2006.
Saundra K. Melancon,
Paralegal Specialist, Office of the Judge Advocate General, Alternate Federal Register Liaison Officer.

[FR Doc. E6-7827 Filed 5-22-06; 8:45 am]

BILLING CODE 3810-FF-P